STATE JUSTICE INSTITUTE

Notice of Public Meeting

State Justice Institute

DATE: Saturday, July 29, 2000; 9 a.m.-5 p.m.

PLACE: Holiday Inn Rushmore Plaza, Rapid City, SD.

MATTERS TO BE CONSIDERED: Consideration of proposals submitted for Institute funding and internal Institute business.

Portions open to the public: All matters.

Portions closed to the public: None.

CONTACT PERSON: David Tevelin, Executive Director, State Justice Institute, 1650 King Street, Suite 600, Alexandria, VA 22314, (703) 684-6100.

David I. Tevelin,
Executive Director.

[FR Doc. 00-19003 Filed 7-24-00; 12:44 pm]

BILLING CODE 6820-SC-M